DEPARTMENT OF THE INTERIOR

Bureau of Indian Affairs

Renewal of Information Collection for Tribal Self-Governance Program

AGENCY: Bureau of Indian Affairs, Interior.

ACTION: Notice of Submission of Information Collection to the Office of Management and Budget.

SUMMARY: The Bureau of Indian Affairs (BIA) is submitting a request to renew the information collection entitled “Tribal Self-Governance Program, 25 CFR 1000” to OMB, as required by the Paperwork Reduction Act. This information collection is currently authorized by OMB Control Number 1076-0143. Respondents include potential and existing Self-Governance Indian tribes. The information collected will be used to establish requirements for entry into the pool of qualified applicants for Self-Governance and to meet reporting requirements of the Tribal Self-Governance Act.

DATES: Submit comments on or before September 25, 2009.

ADDRESSES: You may submit comments on the information collection to the Desk Officer for the Department of the Interior at the Office of Management and Budget, by facsimile at (202) 395-5806 or by e-mail to OIRA_DOCKET@omb.eop.gov. Please also send a copy to Sharee M. Freeman, Director, Office of Self-Governance, 1951 Constitution Avenue, NW., Mail Stop 355-G SIB, Washington, DC 20240.

FOR FURTHER INFORMATION CONTACT: You may request further information or obtain copies of the information collection request submission from Dr. Kenneth Reinfeld, Senior Policy/Program Analyst, 1951 Constitution Avenue, NW., Mail Stop 355-G SIB, Washington, DC 20240, (202) 208-5734.

SUPPLEMENTARY INFORMATION:

I. Abstract

A notice seeking comments from the public on a request to OMB to extend information collection activities was published in the Federal Register on January 9, 2009 (74 FR 917). No comments were received in response to this notice. You are advised that an agency may not conduct or sponsor, and a person is not required to respond to, a collection of information that does not display a valid OMB control number.

II. Request for Comments

BIA requests you to send your comments on this collection to the two locations listed in the ADDRESSES section. Your comments should address: (a) Necessity of this information collection for the proper performance of the functions of the agency, including whether the information will have practical utility; (b) the accuracy of the agency's estimate of the burden (hours and cost) of the collection of information, including the validity of the methodology and assumptions used; (c) ways we could enhance the quality, utility, and clarity of the information to be collected; and (d) ways we could minimize the burden of the collection of the information on the respondents, such as through the use of automated collection techniques or other forms of information technology.

OMB has up to 60 days to make a decision on the submission for renewal, but may make the decision after 30 days. Therefore, to receive the best consideration of your comments, you should submit them by the date indicated in the DATES section.

Before including your address, phone number, e-mail address or other personally identifiable information, be advised that your entire comment—including your personally identifiable information—may be made public at any time. While you may request that we withhold your personally identifiable information, we cannot guarantee that we will be able to do so.

III. Data

OMB Control Number: 1076-0143.

Title: Tribal Self-Governance Program, 25 CFR 1000.

Brief Description of Collection: The Self-Governance program is authorized by the Tribal Self-Governance Act of 1994, Public Law 103-413 (the Act), as amended. Indian tribes interested in entering into Self-Governance must submit certain information as required by the Act. In addition, those tribes and tribal consortia that have entered into Self-Governance funding agreements will be requested to submit certain information as described in 25 CFR 1000. This information will be used to justify a budget request submission on their behalf and to comport with section 405 of the Act that calls for the Secretary to submit an annual report to the Congress. Responses are required to obtain or retain a benefit or are voluntary, depending upon the parts of the program being addressed.

Type of Review: Extension of a currently approved collection.

Respondents: Tribes and tribal consortia participating or wishing to enter into Tribal Self-Governance.

Number of Respondents: 289.

Number of Responses: 204.

Estimated Time per Response: Completion times vary from 15 minutes to 400 hours, with an average of approximately 55 hours.

Frequency of Response: On occasion or annually.

Total Annual Burden: 11,203 hours.

Total Annual Cost: $10,500.

Dated: August 19, 2009.
Alvin Foster,
Chief Information Officer—Indian Affairs.

[FR Doc. E9-20507 Filed 8-25-09; 8:45 am]

BILLING CODE 4310-W8-P